DEPARTMENT OF HEALTH AND HUMAN SERVICES

Centers for Disease Control and Prevention

[Docket No. CDC-2022-0137]

Proposed Update to the CDC Framework for Program Evaluation in Public Health

AGENCY: Centers for Disease Control and Prevention (CDC), Department of Health and Human Services (HHS).

ACTION: Request for information.

SUMMARY: The Centers for Disease Control and Prevention (CDC) in the Department of Health and Human Services (HHS) announces the opening of a docket to obtain comments and suggestions to update the CDC Framework for Program Evaluation in Public Health (CDC Evaluation Framework) and associated resources (e.g., checklists, self-study guide). Updates to the CDC Evaluation Framework are needed to continue its valuable use and service to the evaluation field and public health.

DATES: Written comments must be received on or before January 30, 2023.

ADDRESSES: You may submit comments, identified by Docket No. CDC-2022-0137 by either of the methods listed below. Do not submit comments by email. CDC does not accept comments by email.

• Federal eRulemaking Portal: http://www.regulations.gov. Follow the instructions for submitting comments.

• Mail: Centers for Disease Control and Prevention, Program Performance and Evaluation Office, 1600 Clifton Road NE, Mailstop H21-10, Atlanta, GA 30329-4027

Instructions: All submissions received must include the agency name and Docket Number. All relevant comments received will be posted without change to http://regulations.gov, including any personal information provided. For access to the docket to read background documents or comments received, go to http://www.regulations.gov.

FOR FURTHER INFORMATION CONTACT: Daniel Kidder, CDC Chief Evaluation Officer, Centers for Disease Control and Prevention, Program Performance and Evaluation Office, 1600 Clifton Road NE, Mailstop H21-10, Atlanta, GA 30329-4027; Telephone: 404.639.6270; Email: CDCeval@cdc.gov.

SUPPLEMENTARY INFORMATION: The flexibility and simplicity of the CDC Evaluation Framework have led to its wide adoption and use beyond CDC and public health. The CDC Evaluation Framework has guided CDC and other evaluators over two decades, as evidenced by more than 300 citations in peer-reviewed articles and use in projects reaching more than 50 countries on six continents. However, evaluation has evolved since publication of the framework in 1999; ¹ therefore, CDC seeks to update the framework to align with changes in evaluation, public health, and federal policies and practices.

¹ Centers for Disease Control and Prevention. Framework for program evaluation in public health. MMWR 1999;48(No. RR-11).

The comments from this Request for Information, along with input gathered through other mechanisms (e.g., townhall with CDC, interviews with key federal evaluators, surveys with federal evaluation staff and leaders), will help identify how the framework may have been adapted and used in different settings, what aspects of the framework have been useful, any challenges in using the framework across different contexts, and gaps that may need to be addressed. CDC is gathering input from a variety of audiences, such as federal evaluators, CDC staff, and CDC funded partners. Feedback from these sources will be considered in determining priority areas to update and revise in the CDC Evaluation Framework to continue its valuable use and service to the evaluation field and public health. The relevant feedback along with tools, evidence, and resources in the field and literature will also be considered in determining whether to update, revise, or create new content for the CDC Evaluation Framework and supporting resources (e.g., checklists, tools).

Request for Information

Interested persons or organizations are invited to submit written views, information, and recommendations. CDC invites comments specifically on the following questions, along with suggestions for improving the CDC Evaluation Framework:

1. How has the current CDC Evaluation Framework assisted or not assisted the public health community in planning and conducting high-quality program evaluations? What specifically helped or did not help?

2. Which contexts has the current CDC Evaluation Framework worked well for and for which contexts has it not worked well? What specifically did or did not work and why?

3. How does the current CDC Evaluation Framework promote or inhibit the conduct of evaluations that are culturally responsive and address health equity? What opportunities for improvement exist?

Please be clear and specific in the comments so that CDC can consider the feedback provided in determining whether to change or keep specific aspects of the CDC Evaluation Framework. The CDC Evaluation Framework and associated resources can be found here in the Supporting Materials tab of the docket and at https://www.cdc.gov/evaluation/framework/index.htm.

Please note that comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold submissions containing private or proprietary information such as Social Security numbers, medical information, inappropriate language, or duplicate/near duplicate examples of a mass-mail campaign.

Dated: November 23, 2022.
Angela K. Oliver,
Executive Secretary, Centers for Disease Control and Prevention.

[FR Doc. 2022-25997 Filed 11-28-22; 8:45 am]

BILLING CODE 4163-18-P